FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Embarque El Comando, 488 E. 164 Street, Bronx, NY 10456. Officer: Antolin German, President, (Qualifying Individual).

Lead Young Logistics Inc., 777 East Pico Blvd., Los Angeles, CA 90021. Officers: Wade Lun Chuang, Treasurer, (Qualifying Individual), Moises De La Vega, President.

Orient Star Shipping of Chicago, Inc., dba Orient Star Shipping, Inc., 7321 Hamlin Avenue, Skokie, IL 60076. Officers: Marissa Carido, President, (Qualifying Individual), Dan David Carido, Vice President.

E.P. Stereo Plus, Inc., 216 Warren Avenue, East Providence, RI 02914. Officers: Jeffrey A. Renaut, Vice President, (Qualifying Individual), Marta V. Morais, President.

Embarque M. Calvo, Inc., 1220 Brook Avenue, Bronx, NY 10456. Officer: Modesto Calvo, President, (Qualifying Individual).

Non-Vessel—Operating Common Carrier and Ocean Freight Forwarder Transportation Intermediary Applicants:

Fresh Logistics, LLC, 760 So. Second Street, St. Louis, MO 63102. Officers: Chris Burnette Rowland, Manager, (Qualifying Individual), Keith Robinson, President.

AOL Freight Solutions, 1836 Center Park Drive, Charlotte, NC 28217. Officers: Eric Taghehchian, Vice President, (Qualifying Individual), Arthur Cottingham, President.

Eastern Direct System International Corp., 149-09 183rd Street, Suite 210, Springfield Garden, NY 11413. Officer: Xiao Chun Leung, President, (Qualifying Individual).

World Port Inc. dba Worldport Logistics, 182-08 149th Avenue, Springfield Gardens, NY 11413. Officer: Mario M. Ruiz, President, (Qualifying Individual).

Unity Container Line, Inc., 9010 SW. 137th Avenue, Suite 246, Miami, FL 33188. Officer: Pedro Streb, President, (Qualifying Individual).

Ocean Freight Forwarder—Ocean Transportation Intermediary Applicants:

Worldpack LLC, 200 First Avenue West, Suite 400, Seattle, WA 98119. Officer: Rafael Flores, Director, (Qualifying Individual).

AMR Investments Incorporated dba Amerussia Shipping Company Inc. dba AMR, 547 Boulevard, Kenilworth, NJ 07033. Officers: Gary Walter Pedersen, Vice President, (Qualifying Individual), James Madden, President.

Ambassadors Moving & Shipping, LLC, 8301 Torresdale Avenue, Suite 13, Philadelphia, PA 19136. Officer: Daisy Pacheco, President, (Qualifying Individual).

Active Link Logistics, L.L.C., 34900 Riesling Point, Waukee, IA 50263. Officers: Melinda F. Dunsmoor, General Manager, (Qualifying Individual), May May Ng, Member.

American Freight Line—Southeast, Inc. dba American Freight Line, 671 NW. 4th Avenue, Fort Lauderdale, FL 33311. Officer: Gabriele Heinrichs, President, (Qualifying Individual).

Secure Transportation and Relocation Inc. dba Star International Movers, 21598 Atlantic Blvd., Suite 100, Sterling, VA 20166. Officer: James V. Re, Director, (Qualifying Individual).

Dated: August 4, 2006.
Bryant L. VanBrakle,
Secretary.

[FR Doc. E6-12989 Filed 8-8-06; 8:45 am]

BILLING CODE 6730-01-P